DEPARTMENT OF COMMERCE

Submission for OMB Review; Comment Request

The Department of Commerce will submit to the Office of Management and Budget (OMB) for clearance the following proposal for collection of information under the emergency provisions of the Paperwork Reduction Act (44 U.S.C. Chapter 35).

Agency: International Trade Administration (ITA).

Title: Interim Procedures for Considering Requests under the Commercial Availability Provision of the United States-Peru Trade Promotion Agreement (US-PERU TPA).

OMB Control Number: None.

Type of Request: Emergency submission.

Burden Hours: 89.

Number of Respondents: 16.

Average Hours Per Response: 8 hours for a Request of Commercial Availability Determination; 2 hours for a Response to Request; and 1 hour for Rebuttal.

Needs and Uses: The United States and Peru negotiated the US-Peru Trade Promotion Agreement (the “Agreement”), which entered into force on February 1, 2009. Under the textile provisions of the Agreement, fabric, yarn, and fiber produced in Peru or the United States and traded between the two countries are entitled to duty-free tariff treatment. The Agreement also lists specific fabrics, yarns, and fibers that the two countries agreed are not available in commercial quantities in a timely manner from producers in Peru or the United States commercially unavailable fabrics, yarns, and fibers are also entitled to duty-free treatment despite not being produced in Peru or the United States.

The list of commercially unavailable fabrics, yarns, and fibers may be changed pursuant to the commercial availability provision of the Agreement (See Chapter 3, Article 3.3, Paragraphs 5-7 of the Agreement). Under this provision, interested entities from Peru or the United States have the right to request that a specific fabric, yarn, or fiber be added to, or removed from, the list of commercially unavailable fabrics, yarns, and fibers.

Chapter 3, Article 3.3, paragraph 7 of the Agreement requires that the President “promptly publish” procedures for parties to exercise the right to make these requests. The President delegated the responsibility for publishing the procedures and administering commercial availability requests to the Committee for the Implementation of Textile Agreements (CITA), which issues procedures and acts on requests through the Office of Textiles and Apparel (OTEXA). OTEXA was unable to publish these procedures earlier and is requesting an emergency review of the information collection and procedures from the Office of Management and Budget.

CITA must collect certain information about fabric, yarn, or fiber technical specifications and the production capabilities of Peruvian and U.S. textile producers to determine whether certain fabrics, yarns, or fibers are available in commercial quantities in a timely manner in the United States or Peru, subject to section 203(o) of the US-PERU TPA.

Affected Public: Business or other for-profit organizations.

Frequency: On occasion.

Respondent's Obligation: Voluntary.

OMB Desk Officer: Wendy Liberante, (202) 395-3647.

Copies of the above information collection proposal can be obtained by calling or writing Diana Hynek, Departmental Paperwork Clearance Officer, (202) 482-0266, Department of Commerce, Room 7845, 14th & Constitution Avenue, NW., Washington, DC 20230 or via the Internet at dHynek@doc.gov.

Written comments and recommendations for the proposed information collection should be sent by August 7, 2009 to Wendy Liberante, OMB Desk Officer, Fax number (202) 395-5167 or via the Internet at Wendy_L._Liberante@omb.eop.gov.

Dated: July 27, 2009.
Gwellnar Banks,
Management Analyst, Office of the Chief Information Officer.

[FR Doc. E9-18211 Filed 7-30-09; 8:45 am]

BILLING CODE 3510-FP-P